DEPARTMENT OF COMMERCE

International Trade Administration

[A-533-885]

Polyester Textured Yarn From India: Final Results of Antidumping Duty Administrative Review; 2022

AGENCY: Enforcement and Compliance, International Trade Administration, Department of Commerce.

SUMMARY: The U.S. Department of Commerce (Commerce) determines that polyester textured yarn (yarn) from India was not sold in the United States at less than normal value (NV) during the period of review (POR) January 1, 2022, through December 31, 2022.

DATES: Applicable April 18, 2024.

FOR FURTHER INFORMATION CONTACT: Samantha Kinney, AD/CVD Operations, Office II, Enforcement and Compliance, International Trade Administration, U.S. Department of Commerce, 1401 Constitution Avenue NW, Washington, DC 20230; telephone: (202) 482-2285.

SUPPLEMENTARY INFORMATION:

Background

On January 25, 2024, Commerce published in the Federal Register the preliminary results of the 2022 administrative review ¹ of the antidumping duty order on yarn from India.² We invited interested parties to comment on the Preliminary Results.³ No interested party submitted comments. Accordingly, the final results of review remain unchanged from the Preliminary Results. Commerce conducted this review in accordance with section 751(a) of the Tariff Act of 1930, as amended (the Act).

¹ See Polyester Textured Yarn from India: Preliminary Results of Antidumping Duty Administrative Review; 2022, 89 FR 4903 (January 25, 2024) (Preliminary Results), and accompanying Preliminary Decision Memorandum (PDM).

² See Polyester Textured Yarn from India and the People's Republic of China: Amended Final Antidumping Duty Determination for India and Antidumping Duty Orders, 85 FR 1298 (January 10, 2020) (Order).

³ See Preliminary Results, 89 FR 4903.

Scope of the Order

The product covered by this Order is polyester textured yarn from India. For a full description of the scope of the Order, see the Preliminary Results.⁴

⁴ See Preliminary Results PDM at 2.

Final Results of Review

We determine that the following weighted-average dumping margin exists for the POR: ⁵

⁵ In the Preliminary Results, Commerce preliminarily determined that Reliance Industries Limited and its affiliate, Alok Industries Limited, should be collapsed and treated as a single entity. In these final results, Commerce continues to treat these companies as a single entity. See Preliminary Results PDM at 3-4.

Exporter/producer | Weighted- average dumping margin (percent)
Reliance Industries Limited; Alok Industries Limited | 0.00

Disclosure

Because Commerce received no comments on the Preliminary Results, we have not modified our analysis and no decision memorandum accompanies this Federal Register notice. We are adopting the Preliminary Results as the final results of this review. Consequently, there are no new calculations to disclose in accordance with 19 CFR 351.224(b) for these final results.

Assessment Rates

Pursuant to section 751(a)(2)(C) of the Act and 19 CFR 351.212(b)(1), Commerce has determined, and U.S. Customs and Border Protection (CBP) shall assess, antidumping duties on all appropriate entries of subject merchandise in accordance with the final results of this review. Because the respondent's weighted-average dumping margin or importer-specific assessment rate is zero or de minimis in the final results of review, we intend to instruct CBP to liquidate entries without regard to antidumping duties.⁶

⁶ See Antidumping Proceedings: Calculation of the Weighted-Average Dumping Margin and Assessment Rate in Certain Antidumping Proceedings: Final Modification, 77 FR 8101, 8102-03 (February 14, 2012); see also 19 CFR 351.106(c)(2).

For entries of subject merchandise during the POR produced by the respondent for which it did not know that the merchandise was destined for the United States, we will instruct CBP to liquidate unreviewed entries at the all-others rate (i.e., 13.50 percent) determined in the original less-than-fair-value (LTFV) investigation ⁷ if there is no rate for the intermediate company(ies) involved in the transaction.⁸

⁷ See Order, 85 FR at 1300.

⁸ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the respondent will be equal to the weighted-average dumping margin established in the final results of this administrative review (i.e., 0.00 percent); (2) for merchandise exported by a producer or exporter not covered in this review but covered in a prior segment of the proceeding, the cash deposit rate will continue to be the company-specific rate published for the most recently completed segment of this proceeding in which the producer or exporter participated; (3) if the exporter is not a firm covered in this review, or a previous segment, but the producer is, the cash deposit rate will be the rate established in the completed segment for the most recent period for the producer of the merchandise; and (4) the cash deposit rate for all other producers or exporters will continue to be 13.50 percent ad valorem, the all-others rate established in the LTFV investigation.⁹ These cash deposit requirements, when imposed, shall remain in effect until further notice.

⁹ See Order, 85 FR at 1300.

Notification to Importers

This notice serves as a final reminder to importers of their responsibility under 19 CFR 351.402(f)(2) to file a certificate regarding the reimbursement of antidumping and/or countervailing duties prior to liquidation of the relevant entries during the POR. Failure to comply with this requirement could result in Commerce's presumption that reimbursement of antidumping and/or countervailing duties occurred and the subsequent assessment of double antidumping duties, and/or increase in the amount of antidumping duties by the amount of the countervailing duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a violation subject to sanction.

Notification to Interested Parties

We are issuing and publishing this notice in accordance with sections 751(a)(1) and 777(i)(1) of the Act, and 19 CFR 351.221(b)(5).

Dated: April 12, 2024.
Ryan Majerus,
Deputy Assistant Secretary for Policy and Negotiations, performing the non-exclusive functions and duties of the Assistant Secretary for Enforcement and Compliance.

[FR Doc. 2024-08315 Filed 4-17-24; 8:45 am]

BILLING CODE 3510-DS-P